DEPARTMENT OF EDUCATION

Applications for New Awards; School-Based Mental Health Services Grant Program

AGENCY: Office of Elementary and Secondary Education, Department of Education.

ACTION: Notice.

SUMMARY: The Department of Education (Department) is issuing a notice inviting applications for fiscal year (FY) 2020 for the School-Based Mental Health Services Grant Program, Catalog of Federal Domestic Assistance (CFDA) number 84.184H. This notice relates to the approved information collection under OMB control number 1894-0006.

DATES:

Applications Available: May 28, 2020.

Deadline for Transmittal of Applications: July 13, 2020.

Deadline for Intergovernmental Review: This competition is subject to Executive Order 12372 and the regulations in 34 CFR part 79. However, under 34 CFR 79.8(a), we waive intergovernmental review in order to make awards by the end of FY 2020.

ADDRESSES: For the address for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Amy Banks, U.S. Department of Education, 400 Maryland Avenue SW, Room 3E257, Washington, DC 20202-6450. Telephone: (202) 453-6704. Email: OESE.School.Mental.Health@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The School-Based Mental Health Services Grant Program provides competitive grants to State educational agencies (SEAs) to increase the number of qualified (i.e., licensed, certified, well-trained, or credentialed, each as defined in this notice) mental health service providers (service providers) providing school-based mental health services to students in local educational agencies (LEAs) with demonstrated need (as defined in this notice).

Background: In the Department's FY 2020 appropriations, Congress increased funding for the School Safety National Activities program, and included direction in the Explanatory Statement that $10 million be used to increase the number of counselors, social workers, psychologists, or other service providers who provide school-based mental health services to students. Under this competition the Department will award grants for that purpose. As indicated in the absolute priority in this notice, the focus of these grants will be increasing the number of service providers in LEAs with demonstrated need (as defined in this notice) for these services to maximize the impact given limited available funding. The Department recognizes the enhanced need for these services and providers due to the Novel Coronavirus Disease 2019 (COVID-19). Supporting the mental health needs of all students remains a key focus of the Administration, and these grants will aid States and school districts in meeting their increasing local needs.

Note: The provision of medical services by such service providers is not an allowable use of funds under this grant.

Priorities: This notice contains one absolute priority and two competitive preference priorities. We are establishing the absolute priority, competitive preference priority 1, and part 3 of competitive preference priority 2 for the FY 2020 School-Based Mental Health Services Grant competition and any subsequent year in which we make awards from the list of unfunded applications from this competition, in accordance with section 437(d)(1) of the General Education Provisions Act (GEPA), 20 U.S.C. 1232(d)(1). In accordance with 34 CFR 75.105(b)(2)(ii), part 1 of competitive preference priority 2 is from the notice of final priorities published in the Federal Register on March 9, 2020 (85 FR 13640) (Administrative Priorities), and part 2 of competitive preference priority 2 is from the notice of final priority published in the Federal Register on November 27, 2019 (84 FR 65300) (Opportunity Zones NFP).

Absolute Priority: For FY 2020 and any subsequent year in which we make awards from the list of unfunded applications from this competition, this priority is an absolute priority. Under 34 CFR 75.105(c)(3) we consider only applications that meet the absolute priority.

This priority is:

Absolute Priority: To increase the number of qualified school-based mental health service providers in LEAs with demonstrated need.

To meet this priority, SEAs must propose to increase the number of qualified school counselors, school social workers, school psychologists, or other mental health professionals, including those who provide services remotely (telehealth), by implementing plans to address the recruitment and retention of service providers in LEAs with demonstrated need. To meet this priority, applicants must propose plans that include both recruitment and retention.

1. Recruitment (as defined in this notice) of school-based mental health providers for services in LEAs with demonstrated need.

An applicant must propose a plan to increase the number of service providers, including service providers who offer telehealth services, serving students in LEAs with demonstrated need, such as through payment towards student loan repayments for those service providers, promoting cross-State licensing and certification reciprocity for service providers, or providing incentives for hiring, such as increased pay or flexibility or creating hybrid roles that allow for leadership, academic, or research opportunities, or induction programs.

2. Retention (as defined in this notice) of existing school-based mental health service providers in LEAs with demonstrated need.

An applicant must also propose a plan to improve the likelihood that qualified service providers providing services in LEAs with demonstrated need remain in such LEAs over time. Such a plan might include career pathways programs, recognition and award programs, mentorship programs, or incentives or payment towards student loan repayment for continued service and should include considerations for service providers who offer telehealth services.

3. Demonstration of fiscal control. The applicant must propose plans that demonstrate it will ensure appropriate administrative and fiscal control of grant funds.

Competitive Preference Priorities: For FY 2020 and any subsequent year in which we make awards from the list of unfunded applications from this competition, these priorities are competitive preference priorities. Under 34 CFR 75.105(c)(2)(i) we award up to an additional fifteen points to an application that meets Competitive Preference Priority 1, and an additional five points to an applicant that meets one or more areas within Competitive Preference Priority 2.

Applicants may choose whether or not to address the competitive preference priorities. An applicant must clearly indicate in the abstract section of the application if it addresses the competitive preference priorities. When applying under competitive preference priority 2, the applicant must provide relevant information in the abstract, including the name of LEA(s) or school(s) it proposes to serve and their locale code, Census tract, or status as an “affected LEA” under ESEA section 8538.

These priorities are:

Competitive Preference Priority 1—Respecialization of Existing Mental Health Service Providers to Qualify Them for Work in LEAs with Demonstrated Need (up to 15 points).

To meet this priority, an applicant must propose a respecialization plan that promotes the readiness of service providers who already have training as social workers, counselors, psychologists, or other related fields by supporting incremental training needed for working in a K-12 school and that increases the number of service providers who will be qualified to serve in LEAs with demonstrated need. This can be done by one or more of the following—

(a) Revising, updating, or streamlining requirements for such individuals so that additional training or other requirements focus only on the incremental training needed;

(b) Leveraging technological innovations such as online and distance learning;

(c) Offering flexible options for completing training that leads such professionals to meet State requirements; or—

(d) Establishing new State-level programs that provide alternate means of certification, licensure, or credentialing for such professionals, including through practical or on-the-job training. Such approaches must promote readiness to serve in LEAs.

Competitive Preference Priority 2—Rural Applicants; Spurring Investment in Qualified Opportunity Zones; or American Indian/Alaska Native Tribal Applicants (0 or 5 points).

Under this priority, an applicant must demonstrate one or more of the following:

1. Rural Applicants.

(a) The applicant proposes to serve a community that is served by one or more LEAs with a locale code of 32, 33, 41, 42, or 43; or

(b) The applicant proposes a project in which a majority of the schools served have a locale code of 32, 33, 41, 42, or 43.

Note: Applicants are encouraged to retrieve locale codes from the NCES School District search tool (nces.ed.gov/ccd/districtsearch/), where LEAs can be looked up individually to retrieve locale codes, and Public School search tool (nces.ed.gov/ccd/schoolsearch/), where individual schools can be looked up to retrieve locale codes.

2. Spurring Investment in Qualified Opportunity Zones. The area in which the applicant proposes to provide services overlaps with a Qualified Opportunity Zone, as designated by the Secretary of the Treasury under section 1400Z-1 of the Internal Revenue Code. An applicant must—

(a) Provide the census tract number of the Qualified Opportunity Zone(s) in which it proposes to provide services; and

(b) Describe how the applicant will provide services in the Qualified Opportunity Zone(s).

Note: A list of Qualified Opportunity Zones, including relevant census tract numbers, is available at www.cdfifund.gov/Pages/Opportunity-Zones.aspx.

Applicants may also determine whether a particular area overlaps with a qualified opportunity zone using the National Center of Education Statistics map located at https://nces.ed.gov/programs/maped/LocaleLookup/.

3. Serving one or more LEA(s) that serve American Indian/Alaska Native students (as defined in this notice). To meet this part of the priority, an SEA must demonstrate that it is focusing the proposed project on one or more LEAs that predominantly serve members of one or more federally recognized Tribe(s). The applicant must specify the LEA or LEAs that meet this part of the competitive preference priority.

Note: While an applicant may meet Competitive Preference Priority 2 in more than one way, an applicant receives no more than 5 points for meeting this priority.

Requirements: We are establishing these application and program requirements for the FY 2020 grant competition and any subsequent year in which we make awards from the list of unfunded applications from this competition, in accordance with section 437(d)(1) of GEPA, 20 U.S.C. 1232(d)(1).

Application Requirements: In its application, an applicant must describe the following:

(a) Severity and magnitude of the problem and how it will identify and select LEAs with demonstrated need to be served by the proposed plan.

LEAs with demonstrated need are K-12 LEAs that are experiencing need in regard to mental health services for students, resulting from high student to mental health service provider ratios as compared to other LEAs statewide or nationally or LEAs in which the school climate is negatively impacted by pervasive violence, poverty, substance abuse (including opioid abuse), suicide, natural or manmade disasters, or trafficking. LEAs may also demonstrate a need if they have high mental health service provider to student ratios and have a significant number of families deployed in the military.

Applicants must describe the lack of school-based service providers and its effect on students in LEAs to be served by the grant. Applicants must also describe the nature of the problem for the LEA(s), based on information including, but not limited to, the most recent available ratios of service providers to students enrolled in LEAs designated by the SEA to benefit from the School-Based Mental Health Services Grant Program, provided in the aggregate and disaggregated by profession (e.g., school social workers, school psychologists, school counselors) as compared to local, State, or national data. The description may also include LEA-level or school-level demographic data, school climate surveys, school violence/crime data, data related to suicide rates, and descriptions of barriers to hiring and retaining service providers in these LEAs.

(b) Logic model.

The applicant must describe its approach to increase the number of qualified service providers using a logic model (as defined in this notice), including the key project components and relevant outcomes (each as defined in this notice). The description should indicate how the approach taken under this program will update or expand on any previous approach and how such new approach will take into consideration the previous barriers.

(c) Detailed project budget, including matching funds.

To promote the sustainability of the school-based mental health services, all applicants must include matching funds in the amount of at least 25 percent in their budgets. Budgets must describe both how the applicant will meet the 25 percent matching requirement under this grant, and the source of the funds, such as State, local, or private resources (see Section III). In addition, the budget must specify the portion of funds that will be used for respecialization, if applicable. In total, administrative costs, including funding for State-level or LEA-level administrative updates that promote respecialization, if applicable, may not exceed 10 percent of the annual grant award.

(d) Number of providers.

Applicants must include the most recent available data on the number of service providers, disaggregated by profession (e.g., school social workers, school psychologists, school counselors) and the projected number of service providers they will place into employment in the identified LEAs for each year of the plan using funds from this grant or matching funds, including the unduplicated number of service providers offering telehealth services.

(e) A plan for collaboration and coordination with related Federal, State, and local organizations and initiatives.

Applicants must describe how they intend to collaborate with State, regional, and local organizations, such as school social worker associations, school psychologist associations, school counselor associations, or colleges or universities, and describe their relationship and coordination with regional and local mental health, public health, child welfare, and other community agencies, to achieve plan goals and objectives of increasing the number of school-based mental health service providers in LEAs with demonstrated need. Applicants may also describe proposed coordination with existing federally funded efforts related to elementary and secondary school counseling and mental health promotion. If such coordination will occur, applicants must identify which Federal program(s) they are coordinating with and how such coordination will promote program success across multiple programs.

(f) Planned use of grant funds to supplement, and not supplant, existing school-based mental health services funds and to expand, not duplicate, efforts to increase the number of providers.

Applicants must describe how project funds will supplement, and not supplant, non-Federal funds that would otherwise be available for activities funded under this program.

Applicants must describe how they will use the School-Based Mental Health Services Grant Program funds to expand, rather than duplicate, existing, ongoing, or new efforts to increase the number of service providers in LEAs with demonstrated need that are qualified to provide school-based mental health services, including providers offering telehealth services, and how the plan will integrate existing funding streams and efforts to support the plan.

(g) Options for provision of student mental health services via secure telehealth services.

If an applicant proposes to allow LEAs to offer telehealth services to provide school-based mental health services, the applicant must describe the steps it will require the selected LEA(s) to take in order to ensure that any service provider offering telehealth services does so in a manner consistent with the Family Educational Rights and Privacy Act (FERPA) and the Individuals with Disabilities Education Act (IDEA), as well as all applicable Federal, State, and local laws and ethical obligations and ethical requirements and profession-specific ethical obligations. Under FERPA, LEAs must ensure that reasonable methods are used to protect personally identifiable information (PII) from the education records of students (including health records) maintained by the school or LEA. The description of the provision of telehealth mental health services to students must also include proposed methods to ensure equitable access and compliance with applicable privacy requirements (including FERPA, and the Individuals with Disabilities Education Act (IDEA)), and identify proposed technology platforms, and plans for the collection, maintenance and use or sharing of any PII and student data.

(h) Plan for emergency response.

Applicants must also describe how they will ensure service providers have emergency response plans in place if students threaten harm to self or others.

(i) How the SEA determines the selected LEA(s) are prepared to immediately implement services to address student need.

Applicants must describe how they will determine that each selected LEA is prepared to effectively utilize the service provider(s) to address student need.

Program Requirements:

(a) Applicants that receive an award under this program must ensure that any service provider hired under this grant is qualified to work in K-12 schools, including a provider that offers telehealth services.

(b) Applicants that receive an award under this program must ensure that any service provider offering telehealth services does so in a manner consistent with FERPA and all applicable Federal, State, and local laws and ethical obligations and ethical requirements.

Definitions: We are establishing the following definitions in this notice for the FY 2020 grant competition and any subsequent year in which we make awards from the list of unfunded applications from this competition, in accordance with section 437(d)(1) of GEPA, 20 U.S.C. 1232(d)(1): “certified,” “credentialed,” “LEA with demonstrated need,” “LEAs that serve American Indian/Alaska Native students,” “licensed,” “recruitment,” “respecialization,” “retention,” “school-based mental health service provider,” “telehealth,” and “well-trained.” The following definitions are from 34 CFR 77.1: “logic model,” “project component,” and “relevant outcome.” The following definitions are included for the convenience of the reader: “local educational agency” from 20 U.S.C. 7801(30), and “State educational agency” from 20 U.S.C. 7801(49).

Certified means an individual has documented verification of education, expertise, or training in school psychology, school counseling, or school social work by a State or other recognized entity.

Credentialed means an individual who possesses credentialing as a school psychologist, school counselor, or a school social worker from a State-level or nationally recognized organization.

LEAs that serve American Indian/Alaska Native students means any LEAs that are subject to the requirements of section 8538 of the ESEA (20 U.S.C. 7918).

LEA with demonstrated need means an LEA that demonstrates need in regard to mental health services for students, resulting from high student to mental health service provider ratios as compared to other LEAs statewide or nationally or negative impact on school climate by pervasive violence, poverty, substance abuse (including opioid abuse), suicide, natural or manmade disasters, or trafficking. LEAs may also demonstrate a need if they have high mental health service provider to student ratios and have a significant number of families deployed in the military.

Licensed means an individual has a license that represents a State's legal authority for that individual to serve as a school-based mental health service professional.

Local educational agency means a public board of education or other public authority legally constituted within a State for either administrative control or direction of, or to perform a service function for, public elementary schools or secondary schools in a city, county, township, school district, or other political subdivision of a State, or of or for a combination of school districts or counties that is recognized in a State as an administrative agency for its public elementary schools or secondary schools.

(a) The term includes any other public institution or agency having administrative control and direction of a public elementary school or secondary school.

(b) The term includes an elementary school or secondary school funded by the Bureau of Indian Education but only to the extent that including the school makes the school eligible for programs for which specific eligibility is not provided to the school in another provision of law and the school does not have a student population that is smaller than the student population of the LEA receiving assistance under the ESEA with the smallest student population, except that the school shall not be subject to the jurisdiction of any SEA other than the Bureau of Indian Education.

(c) The term includes educational service agencies and consortia of those agencies.

(d) The term includes the SEA in a State in which the SEA is the sole educational agency for all public schools.

Logic model (also referred to as a theory of action) means a framework that identifies key project components of the proposed project (i.e., the active “ingredients” that are hypothesized to be critical to achieving the relevant outcomes) and describes the theoretical and operational relationships among the key project components and relevant outcomes.

Project component means an activity, strategy, intervention, process, product, practice, or policy included in a project. Evidence may pertain to an individual project component or to a combination of project components (e.g., training teachers on instructional practices for English learners and follow-on coaching for these teachers).

Recruitment means strategies that help attract professionals into positions that are otherwise hard to fill or at a level where demand exceeds supply, including by doing at least two of the following—

(a) Providing an annual stipend for school-based mental health service providers who maintain an active national certification;

(b) Payment towards the school loans accrued by the school-based mental health service provider;

(c) Creating pathways to grant credentialing reciprocity for school-based mental health service providers across State lines; and

(d) Incentives and supports to help mitigate shortages, such as increased pay and other monetary incentives, the creation of formal respecialization programs, availability of distance learning, development of internship programs, and monetary incentives for relocation to high-need areas.

Relevant outcome means the student outcome(s) or other outcome(s) the key project component is designed to improve, consistent with the specific goals of the program.

Respecialization means strategies that promote the readiness of mental health service providers who already have training as social workers, counselors, psychologists, or other related fields to serve in K-12 schools, such as by—

(a) Revising, updating, or streamlining requirements for such individuals so that additional training or other requirements focus only on incremental training needed for working in a K-12 school;

(b) Leveraging technological innovations such as online and distance learning; or

(c) Offering flexible options for completing training that leads such professionals to meet State requirements; or

(d) Establishing new State-level programs that provide alternate means of certification, licensure, or credentialing for such professionals, including through practical or on-the-job training.

Retention means strategies to help ensure that qualified individuals stay in their position to avoid gaps in service and empty positions, including by—

(a) Providing opportunities for advancement or leadership; and

(b) Offering incentives and supports to help mitigate shortages, such as increased pay and other monetary incentives, the creation of formal respecialization programs, availability of distance learning, development of internship programs, or monetary incentives for relocation to high-need areas.

School-based mental health service provider means a State-licensed or State-certified school counselor, school psychologist, school social worker, or other State-licensed or certified mental health professional qualified under State law to provide mental health services to children and adolescents and with school-based mental health services licensing, certification, or training specifically to work in K-12 schools, including those who are qualified to offer telehealth services.

State educational agency means the agency primarily responsible for the State supervision of public elementary or secondary schools.

Telehealth means the use of electronic information and telecommunication technologies to support long-distance clinical health care, patient and professional health-related education, public health, and health administration.

Well-trained means a school-based mental health service provider who maintains up-to-date State certification and/or State licensure, credentialing them to provide school-based mental health services to students.

Waiver of Proposed Rulemaking: Under the Administrative Procedure Act (5 U.S.C. 553), the Department generally offers interested parties the opportunity to comment on proposed priorities, definitions, and requirements. Section 437(d)(1) of GEPA, however, allows the Secretary to exempt from rulemaking requirements regulations governing the first grant competition under a new or substantially revised program authority. This is the first grant competition for this program under title IV, part F, subpart 3 of the ESEA (20 U.S.C. 7281) and therefore qualifies for this exemption. In order to ensure timely grant awards, the Secretary has decided to forgo public comment on the priorities, definitions, and requirements under section 437(d)(1) of GEPA. These priorities, definitions, and requirements will apply to the FY 2020 grant competition and any subsequent year in which we make awards from the list of unfunded applications from this competition.

Program Authority: Section 4631(a)(1)(B) of the ESEA (20 U.S.C. 7281).

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Administrative Priorities. (e) The Opportunity Zones NFP.

II. Award Information

Type of Award: Discretionary grants.

Estimated Available Funds: $10,000,000.

Contingent upon the availability of funds and the quality of applications, we may make additional awards in subsequent years from the list of unfunded applications from this competition.

Estimated Range of Awards: $1,500,000 to 2,500,000.

Estimated Average Size of Awards: $2,000,000.

Estimated Number of Awards: 5.

Note: The Department is not bound by any estimates in this notice.

Project Period: 60 months.

III. Eligibility Information

1. Eligible Applicants: SEAs.

2. Cost Sharing or Matching: This program requires an annual 25 percent cost sharing or matching from State, local, or private resources.

The Secretary does not, as a general matter, anticipate waiving this requirement in the future. Furthermore, given the importance of matching funds to the long-term success of the project, eligible entities must identify appropriate matching funds in the proposed budget.

3. Supplement-Not-Supplant: This program involves supplement-not-supplant funding requirements. See “Application Requirements” in Section I.

4. Subgrantees: Under 34 CFR 75.708(b) and (c) a grantee under this competition may award subgrants—to directly carry out project activities described in its application—to the following types of entities: LEAs. The grantee may award subgrants to entities it has identified in an approved application or that it selects through a competition under procedures established by the grantees. However, a grantee is not required to award subgrants and may instead administer the program directly.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application. Grants.gov has relaxed the requirement for applicants to have an active registration in the System for Award Management (SAM) in order to apply for funding during the COVID-19 pandemic. An applicant that does not have an active SAM registration can still register with Grants.gov, but must contact the Grants.gov Support Desk, toll-free, at 1-800-518-4726, in order to take advantage of this flexibility.

2. Intergovernmental Review: This competition is subject to Executive Order 12372 and the regulations in 34 CFR part 79. However, under 34 CFR 79.8(a), we waive intergovernmental review in order to make awards by the end of FY 2020.

3. Funding Restrictions: We reference regulations outlining funding restrictions in the Applicable Regulations section of this notice. In addition, we remind applicants that section 4001(b) of the ESEA (20 U.S.C. 7101) prohibits the use of funds for medical services or drug treatment or rehabilitation, except for integrated student supports, specialized instructional support services, or referral to treatment for impacted students, which may include students who are victims of, or witnesses to, crime or who illegally use drugs. This prohibition does not preclude the use of funds to support mental health counseling and support services, including those provided by a mental health service provider outside of school, so long as such services are not medical.

V. Application Review Information

1. Selection Criteria: The selection criteria for this program are from 34 CFR 75.210. The maximum score for all selection criteria is 100 points. The points assigned to each criterion are indicated in parentheses. Non-Federal peer reviewers will evaluate and score each application program narrative against the following selection criteria:

(a) Need for the Project (10 points).

The Secretary considers the need for the proposed project. In determining the need for the proposed project, the Secretary considers the extent to which specific gaps or weaknesses in services, infrastructure, or opportunities have been identified and will be addressed by the proposed project, including the nature and magnitude of those gaps or weaknesses.

(b) Quality of Project Personnel (30 points).

(1) The Secretary considers the quality of the personnel who will carry out the proposed project. In determining the quality of project personnel, the Secretary considers the extent to which the applicant encourages applications for employment from persons who are members of groups that have traditionally been underrepresented based on race, color, national origin, gender, age, or disability.

(2) In addition, the Secretary considers:

(i) The qualifications, including relevant training and experience, of key project personnel.

(ii) The qualifications, including relevant training and experience, of project consultants or subcontractors.

(c) Quality of the Project Services (30 points).

(1) The Secretary considers the quality of the services to be provided by the proposed project. In determining the quality of the services to be provided by the proposed project, the Secretary considers the quality and sufficiency of strategies for ensuring equal access and treatment for eligible project participants who are members of groups that have traditionally been underrepresented based on race, color, national origin, gender, age, or disability.

(2) In addition, the Secretary considers the extent to which the training or professional development services to be provided by the proposed project are likely to alleviate the personnel shortages that have been identified or are the focus of the proposed project.

(d) Adequacy of Resources (15 points).

(1) The Secretary considers the adequacy of resources for the proposed project.

(2) In determining the adequacy of resources for the proposed project, the Secretary considers:

(i) The relevance and demonstrated commitment of each partner in the proposed project to the implementation and success of the project.

(ii) The potential for continued support of the project after Federal funding ends, including, as appropriate, the demonstrated commitment of appropriate entities to such support.

(iii) The potential for the incorporation of project purposes, activities, or benefits into the ongoing program of the agency or organization at the end of Federal funding.

(e) Quality of the Management Plan (15 points).

The Secretary considers the quality of the management plan for the proposed project. In determining the quality of the management plan for the proposed project, the Secretary considers the adequacy of mechanisms for ensuring high-quality products and services from the proposed project.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting:

(a) If you apply for a grant under this competition, you must ensure that you have in place the necessary processes and systems to comply with the reporting requirements in 2 CFR part 170 should you receive funding under this competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The Department has established the following Government Performance and Results Act of 1993 performance measures for the School-Based Mental Health Services Grant Program:

(a) The number of school-based mental health service providers recruited as a result of the grant.

(b) The number of school-based mental health service providers retained as a result of the grant.

(c) The reduction in the ratio of students to mental health service providers for each LEA with demonstrated need served by the grant.

(d) The increase in the number of school-based mental health service providers hired annually for each LEA with a demonstrated need served by the grant compared with the average number of such providers hired in each LEA in the 5 years prior to receiving the grant.

(e) The reduction in the annual attrition rate of school-based mental health service providers for each LEA with a demonstrated need served by the grant compared with the average attrition rate of such providers in each LEA in the 5 years prior to receiving the grant.

These measures constitute the Department's indicators of success for this program. Consequently, we advise an applicant for a grant under this program to give careful consideration to these measures in conceptualizing the approach for its proposed project plan. Each grantee will be required to provide, in its annual performance and final reports, data about its progress in meeting these measures. This data will be considered by the Department in making potential continuation awards.

Consistent with 34 CFR 75.591, grantees funded under this program must meet the requirements of any evaluation of the program conducted by the Department or an evaluator selected by the Department.

Performance measure targets: The applicant must propose annual targets for the measures listed above in their application. Applicants must also provide the following information as directed under 34 CFR 75.110(b) and (c):

(1) An explanation of how each proposed performance target is achievable compared to the baseline for the performance measure.

(2) An explanation of the data collection and reporting methods the applicant would use and why those methods are likely to yield reliable, valid, and meaningful performance data; and

(3) An explanation of the applicant's capacity to collect and report reliable, valid, and meaningful performance data, as evidenced by high-quality data collection, analysis, and reporting in other projects or research.

Note: If the applicant does not have experience with collection and reporting of performance data through other projects or research, the applicant should provide other evidence of capacity to successfully carry out data collection and reporting for its proposed project.

The reviewers of each application will score related selection criteria on the basis of how well an applicant has considered these measures in conceptualizing the approach and evaluation of the project.

All grantees must submit an annual performance report and final performance report with information that is responsive to these performance measures.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Frank T. Brogan,
Assistant Secretary for Elementary and Secondary Education.

[FR Doc. 2020-11388 Filed 5-27-20; 8:45 am]

BILLING CODE 4000-01-P